DEPARTMENT OF COMMERCE

Foreign-Trade Zones Board

[B-62-2013]

Foreign-Trade Zone 196—Fort Worth, Texas, Authorization of Production Activity, Flextronics International USA, Inc. (Mobile Phone Assembly and Kitting), Fort Worth, Texas

On June 14, 2013, Flextronics International USA, Inc. submitted a notification of proposed production activity to the Foreign-Trade Zones (FTZ) Board for its facility within FTZ 196—Site 2, in Fort Worth, Texas.

The notification was processed in accordance with the regulations of the FTZ Board (15 CFR part 400), including notice in the Federal Register inviting public comment (78 FR 37785, 6-24-2013). The FTZ Board has determined that no further review of the activity is warranted at this time. The production activity described in the notification is authorized, subject to the FTZ Act and the Board's regulations, including Section 400.14.

Dated: October 31, 2013.
Andrew McGilvray,
Executive Secretary.

[FR Doc. 2013-26511 Filed 11-4-13; 8:45 am]

BILLING CODE 3510-DS-P